DEPARTMENT OF TRANSPORTATION

Research and Special Programs Administration

[RSPA-00-7795]

Pipeline Safety: Meeting of the Integrity Management Communication Team

AGENCY: Research and Special Programs Administration, DOT.

ACTION: Notice of Integrity Management Communication Team telephone conference meeting.

SUMMARY: The Research and Special Programs Administration (RSPA) Office of Pipeline Safety (OPS) is giving notice of a meeting of the Integrity Management Communication Team. The Team will discuss the content and delivery of pipeline information to be conveyed to local officials and members of the public in or near high consequence areas.

DATES: The conference call will be held on August 28 at 1:30 p.m.

ADDRESSES: Members of the public may attend the meeting at the Department of Transportation, Nassif Building, 400 Seventh Street, S.W., Room 7128, Washington, D.C. 20590. An opportunity will be provided for the public to make short statements on the topics under discussion. Anyone wishing to make an oral statement should notify Mary Jo Cooney, (202) 366-4774, or Christina Sames, (202) 366-4561, no later than August 24, 2000, on the topic of the statement and the time requested for the presentation.

Information on Services for Individuals With Disabilities: For information on facilities or services for individuals with disabilities or to request special assistance during the telephone conference calls, contact Christina Sames at (202) 366-4561.

FOR FURTHER INFORMATION CONTACT: Mary Jo Cooney, OPS, (202) 366-4774, or Christina Sames, OPS, (202) 366-4561.

SUPPLEMENTARY INFORMATION:

Background Information

In connection with the proposed rule on Pipeline Integrity Management in High Consequence Areas, OPS plans to propose related rules governing operator communications with local public officials and agencies. To assist in this effort, the OPS Technical Advisory Committees created an Integrity Management Communications Subcommittee to focus on communications issues and to report back to the full Advisory Committee. OPS expanded this Subcommittee to form a team with equal representation from the public, government agencies, and the pipeline industry, and to consolidate several related efforts.

The Team will provide feedback, insight, and information to the Advisory Committee on the content and delivery of information conveyed to local officials and public about pipeline operations, systems, and the risks they pose in or near high consequence areas. The Advisory Committee will provide pipeline communication recommendations to OPS for consideration in drafting the Integrity Management Communications rulemaking. Team will also assist OPS in finalizing a primer to educate local officials on pipelines and their operations.

Issued in Washington, DC on August 14, 2000.
Jeffrey D. Wiese,
Manager, Program Development, Office of Pipeline Safety.

[FR Doc. 00-21056 Filed 8-17-00; 8:45 am]

BILLING CODE 4910-60-P